DEPARTMENT OF COMMERCE

Patent and Trademark Office

Agency Information Collection Activities; Submission to the Office of Management and Budget (OMB) for Review and Approval; Comment Request; Patent Cooperation Treaty

AGENCY: United States Patent and Trademark Office, Department of Commerce.

ACTION: Notice of information collections; request for comments.

SUMMARY: The United States Patent and Trademark Office (USPTO) will submit the following information collection request to the Office of Management and Budget (OMB) for review and clearance in accordance with the Paperwork Reduction Act of 1995, on or after the date of publication of this notice. The USPTO invites comments on this information collection renewal of 0651-0021 (Patent Cooperation Treaty), which helps the USPTO assess the impact of its information collection requirements and minimize the public's reporting burden. Public comments were previously requested via the Federal Register on June 23, 2025 during a 60-day comment period (90 FR 26555). This notice allows for an additional 30 days for public comment.

ADDRESSES: Written comments and recommendations for this information collection should be submitted within 30 days of the publication of this notice on the following website, www.reginfo.gov/public/do/PRAMain. Find this particular information collection by selecting “Currently under 30-day Review—Open for Public Comments” or by using the search function and entering either the title of the information collection or the OMB Control Number, 0651-0021. Do not submit Confidential Business Information or otherwise sensitive or protected information.

FOR FURTHER INFORMATION CONTACT:

• This information collection request may be viewed at www.reginfo.gov. Follow the instructions to view Department of Commerce, USPTO information collections currently under review by OMB.

• Email: InformationCollection@uspto.gov. Include “0651-0021 information request” in the subject line of the message.

• Mail: Justin Isaac, Office of the Chief Administrative Officer, United States Patent and Trademark Office, P.O. Box 1450, Alexandria, VA 22313-1450.

• Telephone: Rafael Bacares, Senior Legal Advisor, International Patent Legal Administration, 571-272-3276.

SUPPLEMENTARY INFORMATION:

Agency: United States Patent and Trademark Office, Department of Commerce.

Title: Patent Cooperation Treaty.

OMB Control Number: 0651-0021.

Needs and Uses: This collection of information is required by the Patent Cooperation Treaty (PCT), which became operational in June 1978 and is administered by the International Bureau (IB) of the World Intellectual Property Organization (WIPO) in Geneva, Switzerland. The provisions of the PCT have been implemented by the United States in part IV of title 35 of the U.S. Code (chapters 35-37) and subpart C of title 37 of the Code of Federal Regulations (37 CFR 1.401-1.499). The purpose of the PCT is to provide a standardized filing format and procedure that allows an applicant to seek protection for an invention in several countries by filing one international application in one location, in one language, and paying one initial set of fees.

The USPTO acts as the Receiving Office (RO/US) for international applications filed by residents and nationals of the United States. These applicants send most of their correspondence directly to the USPTO, but they may also file certain documents directly with the IB. The USPTO serves as an International Search Authority (ISA) to perform searches and issue international search reports (ISR) and the written opinions of international applications. The USPTO also issues international preliminary reports on patentability (IPRP Chapter II) when acting as an International Preliminary Examining Authority (IPEA).

The RO reviews the application and, if it contains all of the necessary information, assigns a filing date to the application. The RO maintains the home copy of the international application and forwards the record copy of the application to the IB and the search copy to the ISA. The IB maintains the record copy of all international applications and publishes them 18 months after the earliest priority date, which is the earliest date for which a benefit is claimed. The ISA performs a search to determine whether there is any prior art relevant to the claims of the international application and will issue an international search report and written opinion as to whether each claim is novel, involves an inventive step, and is industrially applicable. The ISA then forwards the international search report and written opinion to the applicant and the IB. The IB will normally publish the application and search report 18 months after the priority date, unless early publication is requested by the applicant. Until international publication, no third person or national or regional office is allowed access to the international patent application unless so requested or authorized by the applicant. If the applicant wishes to withdraw the application (and does so before international publication), international publication does not take place.

Under optional Chapter II of the Treaty, an applicant who has filed an international application in an RO must file a Demand for an international preliminary examination of the application by an IPEA, such as the USPTO. A Demand, including the form and required fees, must be filed within a prescribed time period. Usually, a Demand is filed with amendments and/or arguments under PCT Article 34 addressing objections raised in the Written Opinion of the International Search Authority (WOISA). The International preliminary examination is a second evaluation of the potential patentability of the claimed invention (usually the claims have been amended), using the same standards on which the written opinion of the ISA was based. A copy of the examination report is sent to the applicant and to the IB. The IB then forwards a copy of the examination report to each Office elected by the applicant.

The information in this collection is used by the public to submit a patent application under the PCT and by the United States Patent and Trademark Office (USPTO), to fulfill its obligation to process, search, and examine the application as directed by the treaty.

Forms: (IB = International Bureau; IPEA = International Preliminary Examination Authority; RO = Receiving Office; SB =Specimen Book)

• PCT/RO/101 (Request and Fee Calculation Sheet)

• PCT/RO/134 (Indications Relating to Deposited Microorganism or Other Biological Material)

• PCT/IB/372 (Notice of Withdrawal)

• PCT/IPEA/401 (Demand and Fee Calculation Sheet)

• PTO/SB/64/PCT (Petition for Revival of an International (PCT) Application for Patent Designating the U.S. Abandoned Unintentionally Under 37 CFR 1.137(a))

• PTO-1382 (Transmittal Letter to the United States Receiving Office (RO/US))

• PTO-1390 (Transmittal Letter to the United States Designation/Elected Office (DO/E.O./US) Concerning a Filing Under 35 U.S.C. 371)

Type of Review: Extension and revision of a currently approved information collection.

Affected Public: Private sector.

Respondent's Obligation: Required to obtain or retain benefits.

Frequency: On occasion.

Estimated Number of Annual Respondents: 412,493 respondents.

Estimated Number of Annual Responses: 412,493 responses.

Estimated Time per Response: The USPTO estimates that the responses in this information collection will take the public between 15 minutes (0.25 hours) and 4 hours to complete. This includes the time to gather the necessary information, create the document, and submit the completed item(s) to the USPTO.

Estimated Total Annual Respondent Burden Hours: 343,739 hours.

Estimated Total Annual Respondent Non-hourly Cost Burden: $452,878,858.

The postage costs have increased since the 60-day Federal Register notice from $10.40 to $11.20 for the Priority Mail legal flat rate envelope used for mailed submissions. As a result, the estimated postage costs have increased from $42,900 to $46,200. This accounts for the added $3,300 to the estimated total annual non-hourly cost burden.

Justin Isaac,
Information Collections Officer, Office of the Chief Administrative Officer, United States Patent and Trademark Office.

[FR Doc. 2025-20515 Filed 11-20-25; 8:45 am]

BILLING CODE 3510-16-P